DEPARTMENT OF THE INTERIOR

Bureau of Land Management

[(ES-960-1910-BJ) Group 29, Maine]

Filing of Plat of Survey, Maine; Correction

AGENCY: Bureau of Land Management, Interior.

ACTION: Notice.

SUMMARY: The Bureau of Land Management published a notice in the Federal Register concerning the filing of a plat of survey. The notice contained an incorrect filing time period.

FOR FURTHER INFORMATION CONTACT: Bureau of Land Management, 7450 Boston Boulevard, Springfield, Virginia 22153. Attn: Cadastral Survey. 703-440-1688.

Correction

In the Federal Register of August 3, 2006, in FR Doc. E6-12097 on page 44042, under DATES, correct 30 calendar days from the date of publication in the Federal Register to read: on the date of publication in the Federal Register.

Dated: August 9, 2006.
Michael W. Young,
Chief Cadastral Surveyor.

[FR Doc. E6-13337 Filed 8-14-06; 8:45 am]

BILLING CODE 4310-GJ-P